DEPARTMENT OF THE INTERIOR

National Park Service

[NPS-WASO-NAGPRA-11614;2200-1100-665]

Notice of Intent To Repatriate Cultural Items: The Museum of Indian Arts and Culture, Museum of New Mexico, Santa Fe, NM

AGENCY: National Park Service, Interior.

ACTION: Notice.

SUMMARY: The Museum of Indian Arts and Culture, Museum of New Mexico, in consultation with the appropriate Indian tribe, has determined that the cultural items meet the definition of unassociated funerary objects and repatriation to the Indian tribe stated below may occur if no additional claimants come forward. Representatives of any Indian tribe that believes itself to be culturally affiliated with the cultural items may contact the Museum of Indian Arts and Culture.

DATES: Representatives of any Indian tribe that believes it has a cultural affiliation with the cultural items should contact the Museum of Indian Arts and Culture at the address below by December 17, 2012.

ADDRESSES: Elena Sweeney, Acting Director, Museum of Indian Arts and Culture, P.O. Box 2087, Santa Fe, NM 87504, telephone (505) 690-1415.

SUPPLEMENTARY INFORMATION: Notice is here given in accordance with the Native American Graves Protection and Repatriation Act (NAGPRA), 25 U.S.C. 3005, of the intent to repatriate cultural items in the possession of the Museum of Indian Arts and Culture that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1928 and 1932, joint excavations by the University of New Mexico and the School of American Research removed human remains and funerary objects from the Unshagi site (LA 123), in Sandoval County, NM. Human remains from these burials are under the control of the Maxwell Museum of Anthropology at the University of New Mexico and the Peabody Museum of Harvard University. The Museum of Indian Arts and Culture has control over seven unassociated funerary objects from the site, including one worked glycimeris shell, three Jemez Black-on-white bowls, one Kuaua Glaze Polychrome bowl, one Glaze F bowl, and one necklace made of fish-vertebrae. The seven objects were removed from numbered burials, but it is not possible to link these funerary objects with specific human remains in the Maxwell Museum or Peabody Museum collections.

Between 1910 and 1913, excavations by the American Bureau of Ethnology and the School of American Research removed human remains and funerary objects from the Amoxiumqua site (LA 481), in Sandoval County, NM. Human remains from these burials are under the control of the Smithsonian Institution in Washington DC. The Museum of Indian Arts and Culture has control over three unassociated funerary objects from the site, including two Jemez Black-on-white bowls and one strand of Venetian glass beads. The objects were removed from numbered burials, but it is not possible to link these funerary objects with specific human remains in the Smithsonian collection.

In 1921, the School of American Research and the Laboratory of Anthropology removed human remains and funerary objects from the Guisewa site (LA 679), in Sandoval County, NM. Human remains from these burials are under the control of the Maxwell Museum of Anthropology at the University of New Mexico. The Museum of Indian Arts and Culture has control over five unassociated funerary objects from the site, including four Jemez Black-on-white bowls and one charred textile fragment. The objects were removed from numbered burials, but it is not possible to link these funerary objects with specific human remains in the Maxwell Museum collection.

In 1937, the University of New Mexico archaeological field school removed human remains and funerary objects from the Guisewa site (LA 679), in Sandoval County, NM. Human remains from these burials are under the control of the Maxwell Museum of Anthropology at the University of New Mexico. The Museum of Indian Arts and Culture has control over three unassociated funerary objects from the site, including one small culinary bowl, one Jemez Black-on-white bowl, and one restorable Black-on-white bowl. The objects were removed from numbered burials, but it is not possible to link these funerary objects with specific human remains in the Maxwell Museum collection.

In 1965, the Museum of New Mexico removed human remains and funerary objects from the Guisewa site (LA 679), in Sandoval County, NM, prior to the installation of a new water line. Human remains from these burials are under the control of the Maxwell Museum of Anthropology at the University of New Mexico. The Museum of Indian Arts and Culture has control over three unassociated funerary objects from the site, including one corn, one lot of animal bones, and one small restorable utility ware bowl. The objects were removed from numbered burials, but it is not possible to link these funerary objects with specific human remains in the Maxwell Museum collection.

At an unknown date, an unknown individual removed human remains and funerary objects from an excavated burial at the Giusewa site (LA 679), in Sandoval County, NM. The location of human remains from this site is unknown, but they are presumed to be in the collections of the Maxwell Museum of Anthropology. The Museum of Indian Arts and Culture has control over one unassociated funerary object from the site. It is not possible to link this funerary object with specific human remains in the Maxwell Museum collection.

Based on material culture and associated architecture, the unassociated funerary objects listed in this notice have been identified as Native American. The burials from which these objects were removed can be identified as ancestral Jemez because they came from known Puebloan sites of the upper Jemez River drainage. Populations that inhabited these sites are linked by Native oral tradition, Euro-American records, and archeological evidence to members of the present-day Pueblo of Jemez, New Mexico.

Determinations Made by the Museum of Indian Arts and Culture

Officials of the Museum of Indian Arts and Culture have determined that:

• Pursuant to 25 U.S.C. 3001(3)(B), the 22 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Pueblo of Jemez, New Mexico.

Additional Requestors and Disposition

Representatives of any other Indian tribe that believes itself to be culturally affiliated with the unassociated funerary objects should contact Elena Sweeney, Acting Director, Museum of Indian Arts and Culture, P.O. Box 2087, Santa Fe, NM 87504, telephone (505) 690-1415, before December 17, 2012. Repatriation of the unassociated funerary objects to the Pueblo of Jemez, New Mexico, may proceed after that date if no additional claimants come forward.

The Museum of Indian Arts & Culture, Museum of New Mexico, is responsible for notifying the Pueblo of Jemez, New Mexico, that this notice has been published.

Dated: October 25, 2012.
David Tarler,
Acting Manager, National NAGPRA Program.

[FR Doc. 2012-27955 Filed 11-15-12; 8:45 am]

BILLING CODE 4312-50-P